DEPARTMENT OF ENERGY

Federal Energy Regulatory Commission

[Project No. 14739-000]

Energy Resources USA Inc.; Notice of Preliminary Permit Application Accepted for Filing and Soliciting Comments, Motions To Intervene, and Competing Applications

On November 27, 2015, the Energy Resources USA Inc. filed an application for a preliminary permit under section 4(f) of the Federal Power Act proposing to study the feasibility of the proposed Coralville Dam Hydroelectric Project No. 14739-000, to be located at the existing Coralville Dam on the Iowa River, near the City of Coralville, in Johnson County, Iowa. The Coralville Dam is owned by the United States government and operated by the U.S. Army Corps of Engineers.

The proposed project would consist of: (1) A new 90-foot by 13-foot by 18-foot concrete conduit; (2) a new 70-foot by 50-foot reinforced concrete powerhouse containing two 3.5-megawatt Kaplan hydropower turbine-generators having a total combined generating capacity of 7.0 megawatts; (3) one new 100-foot-long by 65-foot-wide tailrace; (4) a new 50-foot-long by 45-foot-wide substation; (5) a new 2-mile-long, 69-kilovolt transmission line; and (6) appurtenant facilities. The project would have an estimated annual generation of 34 gigawatt-hours.

Applicant Contact: Mr. Ander Gonzalez, 2655 Le Jeune Road, Suite 804, Coral Gables, Florida 33134; telephone (954) 248-8425.

FERC Contact: Tyrone A. Williams, (202) 502-6331.

Deadline for filing comments, motions to intervene, competing applications (without notices of intent), or notices of intent to file competing applications: 60 days from the issuance of this notice. Competing applications and notices of intent must meet the requirements of 18 CFR 4.36. The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14739-000.

More information about this project, including a copy of the application, can be viewed or printed on the “eLibrary” link of Commission's Web site at http://www.ferc.gov/docs-filing/elibrary.asp. Enter the docket number (P-14739) in the docket number field to access the document. For assistance, contact FERC Online Support.

Dated: December 30, 2015.
Nathaniel J. Davis, Sr.,
Deputy Secretary.

[FR Doc. 2015-33237 Filed 1-5-16; 8:45 am]

BILLING CODE 6717-01-P